ENVIRONMENTAL PROTECTION AGENCY

[ND-001-0010; FRL-7516-8]

Notice of Availability of Dispersion Modeling Analysis of PSD Class I Increment Consumption in North Dakota and Eastern Montana

AGENCY: Environmental Protection Agency (EPA).

ACTION: Notice of availability; extension of comment period.

SUMMARY: The EPA is hereby extending for 8 days the public comment period established by the May 23, 2003, notice of availability of a dispersion modeling analysis of Prevention of Significant Deterioration (PSD) increment consumption in North Dakota and eastern Montana. EPA's air quality modeling analysis is contained in a report titled Dispersion Modeling Analysis of PSD Class I Increment Consumption in North Dakota and Eastern Montana (May 2003).

DATES: Comments must be received on or before July 1, 2003.

ADDRESSES: Written comments may be mailed to Richard R. Long, Director, Air and Radiation Program, Mailcode 8P-AR, Environmental Protection Agency (EPA), Region VIII, 999 18th Street, Suite 300, Denver, Colorado, 80202. The Report and supporting documentation are available on EPA's Web site at http://www.epa.gov/region8/air/ndair.html. Copies of the Report and supporting documentation and data are also available for public inspection during normal business hours at the Air and Radiation Program, Environmental Protection Agency, Region VIII, 999 18th Street, Suite 300, Denver, Colorado, 80202. Interested persons should contact the person listed below to arrange a time to view the Report.

FOR FURTHER INFORMATION CONTACT: Carl Daly, EPA, Region VIII, (303) 312-6416.

SUPPLEMENTARY INFORMATION: This document extends the public comment period established in the Federal Register issued on May 23, 2003 (68 FR 28211). In that document, EPA provided a notice of availability of a dispersion modeling analysis of Prevention of Significant Deterioration (PSD) increment consumption in North Dakota and eastern Montana. EPA's air quality modeling analysis is contained in a report titled Dispersion Modeling Analysis of PSD Class I Increment Consumption in North Dakota and Eastern Montana (May 2003). The results of this analysis show numerous violations of the Class I PSD increments for sulfur dioxide (SO2) in four Class I areas. These Class I areas are the Theodore Roosevelt National Park and the Lostwood Wilderness Area in North Dakota and the Medicine Lakes Wilderness Area and Fort Peck Indian Reservation in Montana. The EPA is soliciting additional public comments on this analysis before taking any further actions. EPA is hereby extending the comment period, which was set to end on June 23, 2003, to July 1, 2003. This extension is in response to requests from interested stakeholders. EPA is extending the comment period 8 days in order to be consistent with the comment period extension granted by the North Dakota Department of Health to their public process on the issue of Prevention of Significant Deterioration (PSD) increment consumption in North Dakota and eastern Montana.

Dated: June 16, 2003.
Robert E. Roberts,
Regional Administrator, Region VIII.

[FR Doc. 03-15764 Filed 6-20-03; 8:45 am]

BILLING CODE 6560-50-P